SOCIAL SECURITY ADMINISTRATION

[Docket No. SSA-2023-0002]

Privacy Act of 1974; Matching Program

AGENCY: Social Security Administration (SSA).

ACTION: Notice of a new matching program.

SUMMARY: In accordance with the provisions of the Privacy Act, as amended, this notice announces a new matching program with the Department of Veterans Affairs (VA), Veterans Benefits Administration. Under this matching program, VA will provide SSA with compensation and pension payment data necessary to administer Supplemental Security Income (SSI) and Special Veterans Benefits (SVB) and to fulfill SSA's obligations for the Medicare Savings Program and Medicare Prescription Drug (Medicare Part D) subsidy (Extra Help).

DATES: The deadline to submit comments on the proposed matching program is October 16, 2023. The matching program will be applicable on November 11, 2023, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2023-0002 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2023-0002 and then submit your comments. The system will issue you a tracking number to confirm your submission. You will not be able to view your comment immediately because we must post each submission manually. It may take up to a week for your comments to be viewable.

2. Fax: Fax comments to 1 (833) 410-1631.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at https://www.regulations.gov or in person, during regular business hours, by arranging with the contact person identified below.

FOR FURTHER INFORMATION CONTACT: Interested parties may submit general questions about the matching program to Cynthia Scott, Division Director, Office of Privacy and Disclosure, Office of the General Counsel, Social Security Administration, G-401 WHR, 6401 Security Boulevard, Baltimore, MD 21235-6401, at telephone: (410) 966-1943, or send an email to Cynthia.Scott@ssa.gov.

SUPPLEMENTARY INFORMATION: SSA will use VA compensation and pension payment data to verify eligibility, or amount of payments, for SSI and SVB recipients. SSA will also use the VA compensation and pension payment data to verify an individual's self-certification of eligibility for Extra Help. Additionally, SSA will use the VA compensation and pension payment data to identify individuals who may qualify for Medicare cost-sharing assistance through the Medicare Savings Programs (MSP) or Extra Help to contact these individuals about the availability of these programs.

Matthew Ramsey,
Executive Director, Office of Privacy and Disclosure, Office of the General Counsel.

Participating Agencies

SSA and VA.

Authority for Conducting the Matching Program

This matching agreement between SSA and VA is executed under the Privacy Act of 1974, 5 U.S.C. 552a, as amended by the Computer Matching and Privacy Protection Act of 1988, Public Law (Pub. L.) 100-503, 102 Stat. 2507 (1988), as amended, and the Computer Matching and Privacy Protection Amendments of 1990, and the regulations and guidance promulgated thereunder.

The legal authorities for SSA to conduct this exchange are sections 806(b), 1144, 1631(e)(1)(B) and (f), and 1860D-14(a)(3) of the Social Security Act (Act) (42 U.S.C. 1006(b), 1320b-14, 1383(e)(1)(B) and (f), and 1395w-114(a)(3)).

The legal authority for VA to disclose information under this agreement is section 1631(f) of the Act (42 U.S.C. 1383(f)), which requires Federal agencies to provide such information as the Commissioner of Social Security needs for purposes of determining eligibility for or amount of benefits, or verifying other information with respect thereto.

Section 1144(a)(1) and (b)(1) of the Act (42 U.S.C. 1320b-14(a)(1) and (b)(1)) requires SSA to take actions to notify individuals about the availability of Medicare cost-sharing and subsidies for low-income individuals under title XVIII of the Act (Medicare), including MSP and Extra Help.

Section 1860D-14(a)(3) of the Act (42 U.S.C. 1395w-114(a)(3)) sets forth the eligibility determination requirements for Extra Help.

Purpose(s)

This agreement sets forth the terms and conditions under which VA will provide SSA with compensation and pension payment data necessary to administer SSI and SVB and to fulfill SSA's obligations for the Medicare Savings Program and Medicare Part D Extra Help. SSA will use VA compensation and pension payment data to verify eligibility, or amount of payments, for SSI and SVB recipients. SSA will also use the VA compensation and pension payment data to verify an individual's self-certification of eligibility for Extra Help. Additionally, SSA will use the VA compensation and pension payment data to identify individuals who may qualify for Medicare cost-sharing assistance through the MSP or Extra Help to contact these individuals about the availability of these programs.

Categories of Individuals

The individuals whose information is involved in this matching program are those individuals who are receiving VA compensation or pension benefits and are matched with data in SSA's SSI Record and SVB system of records (SOR) or SSA's Medicare database SOR.

Categories of Records

VA will provide SSA with electronic files containing compensation and pension payment data. SSA will match the VA data with its SSI/SVB payment information and Medicare database information. SSA will conduct the match using the Social Security number, name, date of birth, and VA claim number on the VA file, the SSI Record and SVB SOR, and the Medicare database SOR.

System(s) of Records

VA will provide SSA with electronic files containing compensation and pension payment data from its SOR entitled the “Compensation, Pension, Education, and Vocational Rehabilitation and Employment Records—VA” (58VA21/22/28), republished with updated name at 74 FR 14865 (April 1, 2009) and last amended at 86 FR 61858 (November 8, 2021).

SSA will match the VA compensation and pension payment data with SSI/SVB payment information maintained in its SOR entitled “Supplemental Security Income Record and Special Veterans Benefits” (60-0103), last fully published at 71 FR 1830 (January 11, 2006), and amended at 72 FR 69723 (December 10, 2007), 83 FR 31250-31251 (July 3, 2018), and 83 FR 54969 (November 1, 2018).

SSA will also match the VA information with its Medicare Database (MDB) File, 60-0321, last fully published at 71 FR 42159 (July 25, 2006), and amended at 72 FR 69723 (December 10, 2007) and 83 FR 54969 (November 1, 2018).

The SORs involved in this matching program have routine uses permitting the disclosures needed to conduct this match.

[FR Doc. 2023-20045 Filed 9-14-23; 8:45 am]

BILLING CODE P